DEPARTMENT OF ENERGY

Federal Energy Regulatory Commission

[Docket No. EG03-60-000, et al.]

Sagebrush., et al.; Electric Rate and Corporate Filings

April 22, 2003.

The following filings have been made with the Commission. The filings are listed in ascending order within each docket classification.

1. Sagebrush

[Docket No. EG03-60-000]

Take notice that on April 16, 2003, Sagebrush (Applicant) filed with the Federal Energy Regulatory Commission (Commission) an Application for Determination of Exempt Wholesale Generator Status pursuant to part 365 of the Commission's regulations. Applicant states that it owns a 46-mile, 220-kV radial transmission line through which power generated by a number of wind-powered qualifying small power production facilities located near Mojave, California is delivered to the utility power purchaser, Southern California Edison Company.

Comment Date: May 13, 2003.

2. Eurus ToyoWest Management LLC

[Docket No. EG03-61-000]

Take notice that on April 16, 2003, Eurus ToyoWest Management LLC (Applicant) filed with the Federal Energy Regulatory Commission (Commission) an Application for Determination of Exempt Wholesale Generator Status pursuant to part 365 of the Commission's regulations. Applicant states that it manages the operation, servicing, maintenance and repair of a 46-mile, 220-kV radial transmission line, owned by Sagebrush, a California general partnership, through which power generated by a number of wind-powered qualifying small power production facilities located near Mojave, California is delivered to the utility power purchaser, Southern California Edison Company.

Comment Date: May 13, 2003.

3. Morgan Stanley Capital Group Inc.

[Docket No. EL03-120-000]

Take notice that on April 17, 2003, Morgan Stanley Capital Group Inc. filed with the Federal Energy Regulatory Commission (Commission) a petition requesting that the Commission issue a declaratory order stating that under section 206 of the Federal Power Act, and sections 9.4 and 22.3(d) of the Western System Power Pool Agreement, a Defaulting Party cannot refuse to pay a Termination Payment based on a pending FPA section 206 proceeding seeking a refund with respect to some of the transactions included in the Termination Payment calculation.

Comment Date: May 19, 2003.

4. Sagebrush

[Docket No. EL03-121-000]

Take notice that on April 16, 2003, Sagebrush, a California partnership (Sagebrush), filed a Petition for Declaratory Order finding that, under the circumstances described in the Petition: (1) A transmission line currently used to transmit power produced exclusively by a number of wind power qualifying facilities (QFs) under the Public Utility Regulatory Policies Act of 1978 may be used to transmit power produced by non-QF eligible facilities owned by exempt wholesale generators without affecting the QF status of any QF that uses a portion of the line; and (2) such operation will not cause Sagebrush or any party owning a direct or indirect interest in Sagebrush to become subject to any additional regulatory requirements under the Federal Power Act.

Comment Date: May 9, 2003.

5. Mojave 16/17/18 LLC (Mojave 16 Project)

[Docket No. QF88-365-007]

Take notice that on April 16, 2003, Mojave 16/17/18 LLC (Applicant) filed with the Federal Energy Regulatory Commission (Commission) an Application for Commission Recertification as a Qualifying Small Power Production Facility pursuant to part 292 of the Commission's regulations.

Comment Date: May 16, 2003.

6. PJM Interconnection, LLC

[Docket No. RT01-2-008]

Take notice that on April 17, 2003, PJM Interconnection, LLC (PJM) submitted a filing to clarify and supplement its filing of March 20, 2003, in compliance with the Commission's order in this proceeding dated December 20, 2002. PJM states that the instant filing clarifies its March 20 filing with respect to priorities to be applied in PJM's economic planning process and supplements its previous filing with respect to certain issues regarding capacity benefit margin and seams between PJM and other RTO regions.

PJM states that copies of this filing have been served on all parties, as well as on all PJM Members and the state electric utility regulatory commissions in the PJM region.

Comment Date: May 19, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-10462 Filed 4-28-03; 8:45 am]

BILLING CODE 6717-01-P